DEPARTMENT OF LABOR

Employment and Training Administration

[TA-W-60,940]

U.S. Global Flag LLC, Inc., Thorn, Inc., Paterson, NJ; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 29, 2007, applicable to workers of U.S. Global Flag LLC, Inc., Paterson, New Jersey. The notice was published in the Federal Register on April 10, 2007 (72 FR 17937).

At the request of the State agency, the Department reviewed the certification for workers of the subject firm. The workers were engaged in the production of men's trousers and short trousers and women's trousers and short skirts and jacket linings and bedding.

New information shows that following a corporate decision, workers separated from employment at the subject firm had their wages reported under a separate unemployment insurance (UI) tax account for Thorn, Inc., a companion company.

Accordingly, the Department is amending the certification to properly reflect this matter.

The intent of the Department's certification is to include all workers of U.S. Global Flag LLC, Inc., Paterson, New Jersey who were adversely affected by increased company imports.

The amended notice applicable to TA-W-60,940 is hereby issued as follows:

All workers of U.S. Global Flag LLC, Inc., including workers paid by Thorn, Inc., Paterson, New Jersey, who became totally or partially separated from employment on or after January 31, 2006, through March 29, 2009, are eligible to apply for adjustment assistance under Section 223 of the Trade Act of 1974, and are also eligible to apply for alternative trade adjustment assistance under Section 246 of the Trade Act of 1974.

Signed at Washington, DC, this 13th day of April 2007.
Richard Church,
Certifying Officer, Division of Trade Adjustment Assistance.

[FR Doc. E7-7721 Filed 4-23-07; 8:45 am]

BILLING CODE 4510-FN-P